DEPARTMENT OF LABOR

Employment and Training Administration

Proposed Collection; Comment Request

ACTION: Notice of proposed data collection.

SUMMARY: The Department of Labor, as part of its continuing effort to reduce paperwork and respondent burden, conducts a preclearance consultation process to provide the general public and Federal agencies with an opportunity to comment on proposed and/or continuing collections of information in accordance with the Paperwork Reduction Act of 1995 (PRA95) [44 U.S.C. 3506(c)(2)(A)]. This process helps to ensure that requested data can be provided in the desired format, reporting burdens are minimized, collection instruments are clearly understood, and the impact of collection requirements on respondents can be properly assessed. Currently, the Employment and Training Administration (ETA) is requesting an extension of the Migrant and Seasonal Farmworker (MSFW) Youth Program Planning, Reporting and Performance System forms and related instructions. OMB approved the forms on November 13, 2001 (OMB Control No. 1205-0429, expiring 7/31/2003). A copy of the proposed Information Collection Request (ICR) can be obtained by contacting the office listed below in the addressee section of this notice.

DATES: Written comments must be submitted to the office listed in the addressee section below on or before July 11, 2003.

ADDRESSES: Alina Walker, Acting Chief, Division of Seasonal Farmworker Programs, Employment and Training Administration, U.S. Department of Labor, Room N-4641, 200 Constitution Avenue, NW, Washington, DC 20210. Telephone: 202-693-2706 (this is not a toll-free number) or walker.alina@dol.gov.

SUPPLEMENTARY INFORMATION:

I. Background

The Workforce Investment Act (WIA) Final Rule at 20 CFR 667.300 requires annual plans and quarterly performance reports from all “direct grant recipients.” The data under WIA 167 MFSW Youth Program is used to provide material reports to the Secretary of Labor, respond to congressional inquiries, support congressional testimony on behalf of the program, and identify areas of technical assistance need and performance improvement.

On November 1, 2002, the MSFW Youth Program began on-line reporting via the Enterprise Information Management System (EIMS) of the Department of Labor. All MSFW Youth Grantees are required to submit quarterly reports through the EIMS.

II. Review Focus

The Department of Labor is particularly interested in comments which:

• Evaluate whether the proposed collection of information is necessary for the proper performance of the functions of the agency, including whether the information will have practical utility;

• Evaluate the accuracy of the agency's burden estimate for the proposed collection of information, including the validity of the methodology and assumptions used;

• Enhance the quality, utility, and clarity of the information to be collected; and

• Minimize the burden of the collection of information on those who are to respond, including the use of appropriate automated, electronic, mechanical, or other technological collection techniques, e.g., permitting electronic submissions of responses.

III. Current Actions

This proposed ICR will be used by approximately 12 Workforce Investment Act (WIA) MSFW Youth Program grant recipients as the primary reporting and performance measurement vehicle for enrolled youths to indicate their characteristics, training and services provided, outcomes (including job placement and retention, and attainment of basic skills), as well as detailed financial data on program expenditures.

Type of Review: Extension.

Agency: Employment and Training Administration.

Title: Planning, reporting, and performance system for WIA MSFW Youth grant recipients.

OMB Number: 1205-0429.

Catalog of Federal Domestic Assistance Number:

Record Keeping: Grant recipients shall retain supporting and other documents necessary for the compilation and submission of the subject reports for three years after submission of the final financial report for the grant in question [29 CFR 97.42 and/or 29 CFR 95.53].

Affected Public: State agencies; private, non-profit corporations.

Cite/Reference/Form/etc.: The collection instrument is for the MSFW Youth Program Planning, Reporting, and Performance System and related instructions. OMB-approved forms are provided for use in gathering information at the grant recipient field office level.

IV. Total Burden

Required section 167 activity | NFJP Form # | Number of respondents | Responses per year | Total responses | Hours per response | Total burden hrs.
Plan Narrative |  | 12 | 1 | 12 | 5 | 60
Data Record |  | 12 | (¹) | 5,000 | 3 | 15,000
Report from Data Record |  | 12 | 1 | 12 | 2 | 24
Budget Information Summary | ETA 9096 | 12 | 1 | 12 | 15 | 180
Program Planning Summary | ETA 9097 | 12 | 1 | 12 | 15 | 180
Program Status Summary | ETA 9098 | 12 | 4 | 48 | 7 | 336
Totals |  | 12 | 8 | 5,096 | 47 | 15,780
¹ On occasion.

Total Respondents: 12.

Frequency: Annually for planning information; quarterly for both financial information and participation and characteristics information.

Total Responses:

Planning—36 (12 times 3).

Participant Reporting—48 (1 Program Status Summary per quarter, per grant recipient per year).

Participant record keeping (MSFW SPIR)—5000 records.

There are four statutorily-required quarterly financial status reports per grant recipient per year, by year of appropriation. For participation and characteristics information, there are four quarterly submissions per year, regardless of the year(s) of funding expended during the program year.

Average Time per Grantee Response:

Annual Plan—2 hours.

Budget Information Summary (BIS)—30 minutes; [ETA 9096].

Program Planning Summary (PPS)—1 hour; [ETA 9097].

Financial Status Report—30 minutes; [ETA 9092, OMB Approval No. 1205-0428, expiring 10/04].

Program Status Summary (PSS)—1 hour; [ETA 9098].

Individual Recordkeeping (Workforce Investment Act Standardized Participant Record)—3 hours (per participant record).

The individual time per response varies widely depending on the degree of automation attained by individual grant recipients. Grant recipients also vary according to the numbers of individuals served in each program year. If the grant recipient has a fully developed and automated Management Information System, the response time is limited to one-time programming, plus processing time for each response.

Estimated Total Burden Hours:

Planning (MSFW)—12 responses times 2 hours per response equals 24 burden hours.

BIS (MSFW)—12 responses times 30 minutes per response equals 6 burden hours.

PPS (MSFW)—12 responses times 1 hour per response equals 12 burden hours.

FSR (MSFW)—48 (12 times 4) responses times 30 minutes per response equals 24 minimum burden hours.

PSS (MSFW)—48 (12 times 4) responses times 1 hour per response equals 48 burden hours.

The use of the term “minimum” refers to the fact that an individual grantee must continue to report on expenditures by year of appropriation until those funds are completely expended. Thus, if more than one year's appropriation is expended in a given quarter, two FSRs (or more) must be submitted for that period.

Total Burden Cost (capital/startup): $-0-.

Total Burden Cost (operating/maintaining):

MSFW Youth Program—(hours times $15.00 per hour).

Costs may vary widely among grantees, from nearly no additional cost to some higher figure, depending on the state of automation attained by each grantee and the wages paid to the staff actually completing the various forms. All costs associated with the submission of these forms are allowable grant expenses.

Comments submitted in response to this request will be summarized and/or included in the Office of Management and Budget request for approval of the information collection. All comments will become a matter of public record.

Signed at Washington, DC, this 2nd day of May 2003.
Emily Stover DeRocco,
Assistant Secretary of Labor, Employment and Training Administration.

[FR Doc. 03-11676 Filed 5-9-03; 8:45 am]

BILLING CODE 4510-30-P